DEPARTMENT OF THE INTERIOR

National Park Service

[N6637; NPS-WASO-NAGPRA-NPS0041369; PPWOCRADN0-PCU00RP14.R50000]

Notice of Inventory Completion: Gilcrease Museum, Tulsa, OK

AGENCY: National Park Service, Interior.

ACTION: Notice.

SUMMARY: In accordance with the Native American Graves Protection and Repatriation Act (NAGPRA), the Gilcrease Museum has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Laura Bryant, Gilcrease Museum, 800 S Tucker Drive, Tulsa, OK 74104, email laura-bryant@utulsa.edu.

SUPPLEMENTARY INFORMATION: This notice is published as part of the National Park Service's administrative responsibilities under NAGPRA. The determinations in this notice are the sole responsibility of the Gilcrease Museum, and additional information on the determinations in this notice, including the results of consultation, can be found in the inventory or related records. The National Park Service is not responsible for the determinations in this notice.

Abstract of Information Available

Human remains representing, at least, 28 individuals have been reasonably identified. The 286 associated funerary objects are 60 lots of ceramic vessels and sherds, seven lots of faunal remains, one carved shell gorget, 27 lots of shell beads, 16 lots of shell spoons, five lots of shell, six lots of pipe bowls, 136 lots of lithic tools, two lots of chunkey stones, one lot of bone beads, one lot of pebbles, five lots of charcoal, one lot of galena, one lot of worked copper, one lot of worked faunal teeth, one mud dauber's nest, nine lots of pigment, one lot of pot fill, two lots of bone tools, one lot of lead bullet fragments, one lot of petrified wood, and one lot of ear spools. The Yokem site (11PK89) is located in Pike County, Illinois. In 1968, avocational archaeologist Gregory Perino excavated at the Yokem Site under the auspices of the Thomas Gilcrease Foundation.

Most of the ancestral remains and funerary objects came directly to Thomas Gilcrease following excavation, though Gregory Perino did keep some in personal collection. Perino's collection was purchased by the Gilcrease Foundation in the 1960s. Thomas Gilcrease transferred his collection to the City of Tulsa in 1955 and 1963-64 to form Gilcrease Museum. To our knowledge, no known hazardous substances were used to treat any of the remains or associated funerary objects.

Cultural Affiliation

Based on the information available and the results of consultation, cultural affiliation is clearly identified by the information available about the human remains and associated funerary objects described in this notice.

Determinations

Gilcrease Museum has determined that:

• The human remains described in this notice represent the physical remains of 28 individuals of Native American ancestry.

• The 286 objects described in this notice are reasonably believed to have been placed intentionally with or near individual human remains at the time of death or later as part of the death rite or ceremony.

• There is a reasonable connection between the human remains and associated funerary objects described in this notice and the Citizen Potawatomi Nation, Oklahoma; Eastern Shawnee Tribe of Oklahoma; Forest County Potawatomi Community, Wisconsin; Iowa Tribe of Kansas and Nebraska; Kaw Nation, Oklahoma; Match-e-be-nash-she-wish Band of Pottawatomi Indians of Michigan; Miami Tribe of Oklahoma; Omaha Tribe of Nebraska; Otoe-Missouria Tribe of Indians, Oklahoma; Peoria Tribe of Indians of Oklahoma; Pokagon Band of Potawatomi Indians, Michigan and Indiana; Ponca Tribe of Indians of Oklahoma; Ponca Tribe of Nebraska; Prairie Band Potawatomi Nation; Quapaw Nation; Sac & Fox Nation, Oklahoma; Shawnee Tribe; The Osage Nation; and the Winnebago Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 15, 2026. If competing requests for repatriation are received, the Gilcrease Museum must determine the most appropriate requestor prior to repatriation. Requests for joint repatriation of the human remains and associated funerary objects are considered a single request and not competing requests. The Gilcrease Museum is responsible for sending a copy of this notice to the Indian Tribes and Native Hawaiian organizations identified in this notice.

Authority: Native American Graves Protection and Repatriation Act, 25 U.S.C. 3003, and the implementing regulations, 43 CFR 10.10.

Dated: November 19, 2025.
Melanie O'Brien,
Manager, National NAGPRA Program.

[FR Doc. 2025-22909 Filed 12-15-25; 8:45 am]

BILLING CODE 4312-52-P